DEPARTMENT OF ENERGY

Request for Information Extension: Energy Storage Grand Challenge

AGENCY: Department of Energy.

ACTION: Request for information; extension of public comment period.

SUMMARY: On July 16, 2020, the U.S. Department of Energy (DOE) published a notice of Request for Information (RFI) to help support the Energy Storage Grand Challenge. The notice provided an opportunity for submitting electronic, written responses to the RFI by August 21, 2020. DOE is extending the public comment period for submitting comments to the RFI by 10 days to August 31, 2020.

DATES: The comment period for the RFI published on July 16, 2020 (85 FR 43232) is extended. DOE will accept responses regarding this request for information received no later than August 31, 2020.

ADDRESSES: Comments must be submitted electronically to rticstorage@hq.doe.gov. Responses must be provided as a Microsoft Word (.doc) or (.docx) attachment to the email with no more than 10 pages in length for each section listed in the RFI. Only electronic responses will be accepted. Response Guidance: Please identify your answers by responding to a specific question or topic if possible. Respondents may answer as many or as few questions as they wish.

FOR FURTHER INFORMATION CONTACT: Requests for additional information may be submitted electronically to Rima Oueid at rticstorage@hq.doe.gov at (202) 586-5000. Further instruction can be found in the RFI document posted on https://eereexchange.energy.gov/.

SUPPLEMENTARY INFORMATION: On July 16, 2020, DOE published a notice of RFI to support the Energy Storage Grand Challenge and to solicit feedback from industry, academia, research laboratories, government agencies, and other stakeholders on issues related to challenges and opportunities in the mobile and stationary energy storage industry. This RFI is solely for information and planning purposes and does not constitute a Request for Proposal (RFP). Information received may be used to assist the DOE in planning the scope of future technology studies, deployment, or technology commercialization efforts and may be shared with other federal agencies. The DOE may also use this RFI to gain public input on its efforts, expand and facilitate public access to the DOE's resources, and to mobilize investment in U.S. energy storage technologies as well as ancillary technologies and efforts that will enable commercialization and widespread adoption. The information collected may be used for internal DOE planning and decision-making to ensure that future activities maximize public benefit while advancing the Administration's goals for leading the world in building a competitive, clean energy economy; securing America's energy future; reducing carbon pollution; and creating domestic jobs.

DOE believes that extending the comment period to allow additional time for interested parties to submit comments is appropriate. Therefore, DOE is extending the deadline for response until August 31, 2020, to provide interested parties additional time to prepare and submit responses.

Signing Authority

This document of the Department of Energy was signed on July 27, 2020, by Conner Prochaska Chief, Commercialization Officer, Office of Technology Transitions; Alex Fitzsimmons Deputy Assistant Secretary for Energy Efficiency, Office of Energy Efficiency and Renewable Energy; and Michael Pesin, Deputy Assistant Secretary, Office of Electricity, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on July 28, 2020.
Treena V. Garrett,
Federal Register Liaison Officer, U.S. Department of Energy.

[FR Doc. 2020-16606 Filed 7-30-20; 8:45 am]

BILLING CODE 6450-01-P